COMMITTEE FOR THE IMPLEMENTATION OF TEXTILE AGREEMENTS

Adjustment of Import Limits for Certain Cotton, Wool, Man-Made Fiber, Silk Blend and Other Vegetable Fiber Textiles and Textile Products Produced or Manufactured in Thailand

November 2, 2001.

AGENCY: Committee for the Implementation of Textile Agreements (CITA).

ACTION: Issuing a directive to the Commissioner of Customs adjusting limits.

EFFECTIVE DATE: November 7, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted for swing, special shift, carryover, carryforward, and carryforward used.

A description of the textile and apparel categories in terms of HTS numbers is available in the CORRELATION: Textile and Apparel Categories with the Harmonized Tariff Schedule of the United States (see Federal Register notice 65 FR 82328, published on December 28, 2000). Also see 65 FR 66728, published on November 7, 2000.

D. Michael Hutchinson,
Acting Chairman, Committee for the Implementation of Textile Agreements.

Committee for the Implementation of Textile Agreements

November 2, 2001.

Commissioner of Customs,

Department of the Treasury, Washington, DC 20229

Dear Commissioner: This directive amends, but does not cancel, the directive issued to you on October 27, 2000, by the Chairman, Committee for the Implementation of Textile Agreements. That directive concerns imports of certain cotton, wool, man-made fiber, silk blend and other vegetable fiber textiles and textile products, produced or manufactured in Thailand and exported during the twelve-month period which began on January 1, 2001 and extends through December 31, 2001.

Effective on November 7, 2001, you are directed to adjust the limits for the following categories, as provided for under the Uruguay Round Agreement on Textiles and Clothing:

Category | Adjusted twelve-month limit ¹
Levels in Group I
301-O ² | 1,355,111 kilograms.
363 | 27,551,417 numbers.
369-D ³ | 317,578 kilograms.
369-S ⁴ | 386,572 kilograms.
619 | 9,470,653 square meters.
620 | 9,705,508 square meters.
Group II
237, 331-348, 350-352, 359-H ⁵, 359pt. ⁶, 431, 433-438, 440, 442-448, 459pt. ⁷, 631, 633-652, 659-H ⁸, 659pt. ⁹, 831, 833-838, 840-858 and 859pt. ¹⁰ | 384,230,736 square meters equivalent.
Sublevels in Group II |
338/339 | 2,786,011 dozen.
340 | 378,107 dozen.
341/641 | 925,279 dozen.
342/642 | 805,538 dozen.
345 | 407,239 dozen.
347/348/847 | 1,125,443 dozen.
351/651 | 326,568 dozen.
434 | 13,049 dozen.
435 | 62,684 dozen.
442 | 24,028 dozen.
638/639 | 2,558,950 dozen.
647/648 | 1,598,203 dozen.
¹ The limits have not been adjusted to account for any imports exported after December 31, 2000.
² Category 301-O: only HTS numbers 5205.21.0020, 5205.21.0090, 5205.22.0020, 5205.22.0090, 5205.23.0020, 5205.23.0090, 5205.24.0020, 5205.24.0090, 5205.26.0020, 5205.26.0090, 5205.27.0020, 5205.27.0090, 5205.28.0020, 5205.28.0090, 5205.41.0020, 5205.41.0090, 5205.42.0020, 5205.42.0090, 5205.43.0020, 5205.43.0090, 5205.44.0020, 5205.44.0090, 5205.46.0020, 5205.46.0090, 5205.47.0020, 5205.47.0090, 5205.48.0020 and 5205.48.0090.
³ Category 369-D: only HTS numbers 6302.60.0010, 6302.91.0005 and 6302.91.0045.
⁴ Category 369-S: only HTS number 6307.10.2005.
⁵ Category 359-H: only HTS numbers 6505.90.1540 and 6505.90.2060.
⁶ Category 359pt.: all HTS numbers except 6505.90.1540, 6505.20.2060 (Category 359-H); and 6406.99.1550.
⁷ Category 459pt.: all HTS numbers except 6405.20.6030, 6405.20.6060, 6405.20.6090, 6406.99.1505 and 6406.99.1560.
⁸ Category 659-H: only HTS numbers 6502.00.9030, 6504.00.9015, 6504.00.9060, 6505.90.5090, 6505.90.6090, 6505.90.7090 and 6505.90.8090.
⁹ Category 659pt.: all HTS numbers except 6502.00.9030, 6504.00.9015, 6504.00.9060, 6505.90.5090, 6505.90.6090, 6505.90.7090, 6505.90.8090 (Category 659-H); 6406.99.1510 and 6406.99.1540.
¹⁰ Category 859pt.: only HTS numbers 6115.19.8040, 6117.10.6020, 6212.10.5030, 6212.10.9040, 6212.20.0030, 6212.30.0030, 6212.90.0090, 6214.10.2000 and 6214.90.0090.

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc. 01-27962 Filed 11-6-01; 8:45 am]

BILLING CODE 3510-DR-S